FEDERAL RESERVE SYSTEM

Agency Information Collection Activities: Announcement of Board Approval Under Delegated Authority and Submission to OMB

AGENCY: Board of Governors of the Federal Reserve System.

SUMMARY: Notice is hereby given of the final approval of proposed information collections by the Board of Governors of the Federal Reserve System (Board) under OMB delegated authority, as per 5 CFR 1320.16 (OMB Regulations on Controlling Paperwork Burdens on the Public). Board-approved collections of information are incorporated into the official OMB inventory of currently approved collections of information. Copies of the OMB 83-I's and supporting statements and approved collection of information instrument(s) are placed into OMB's public docket files. The Federal Reserve may not conduct or sponsor, and the respondent is not required to respond to, an information collection that has been extended, revised, or implemented on or after October 1, 1995, unless it displays a currently valid OMB control number.

FOR FURTHER INFORMATION CONTACT: Federal Reserve Clearance Officer Cindy Ayouch--Division of Research and Statistics, Board of Governors of the Federal Reserve System, Washington, DC 20551 (202)452-3829.

OMB Desk Officer Joseph Lackey--Office of Information and Regulatory Affairs, Office of Management and Budget, New Executive Office Building, Room 10235, Washington, DC 20503

Final approval under OMB delegated authority of the extension for three years, without revision, of the following reports:

1. Report title: Semiannual Report of Derivatives Activity.

Agency form number: FR 2436.

OMB Control number: 7100-0286.

Frequency: Semiannual.

Reporters: Large U.S. dealers of over-the-counter (OTC) derivatives.

Annual reporting hours: 1,400.

Estimated average hours per response: 100.

Number of respondents: 7.

General description of report: This information collection is voluntary (12 U.S.C. §§ 248(a), 353-359, and 461) and is given confidential treatment (5 U.S.C. § 552(b)(4)).

Abstract: The FR 2436 collects derivatives market statistics from seven large U.S. dealers of over-the-counter (OTC) derivatives. Data are collected on notional amounts and gross market values of the volumes outstanding of broad categories of foreign exchange, interest rate, equity- and commodity- linked over-the-counter derivatives contracts across a range of underlying currencies, interest rates, and equity markets.

This collection of information complements the ongoing triennial Survey of Foreign Exchange and Derivatives Market Activity (FR 3036; OMB No. 7100-0285). The FR 2436 collects similar data on the outstanding volume of derivatives, but not on derivatives turnover. As with the FR 3036, the Federal Reserve conducts this report in coordination with other central banks and forwards the aggregated data furnished by U.S. reporters to the Bank for International Settlements (BIS), which publishes global market statistics that are aggregations of national data.

2. Report title: Domestic Branch Notification.

Agency form number: FR 4001.

OMB Control number: 7100-0097.

Frequency: On occasion.

Reporters: State member banks.

Annual reporting hours: 599 hours.

Estimated average hours per response: 30 minutes for expedited notifications; 1 hour for nonexpedited notifications.

Number of respondents: 474 expedited; 362 nonexpedited.

General description of report: This information collection is mandatory (12 U.S.C. 321) and is not given confidential treatment.

Abstract: The Federal Reserve System requires a state member bank to file a notification whenever it proposes to establish a domestic branch. There is no formal reporting form; banks notify the Federal Reserve by letter prior to making the proposed investment. The Federal Reserve uses the information to fulfill its statutory obligation to supervise state member banks.

Final approval under OMB delegated authority of the implementation of the following report:

Report title: Central Bank Survey of Foreign Exchange and Derivatives Market Activity.

Agency form number: FR 3036.

OMB control number: 7100-0285.

Frequency: One-time.

Reporters: Financial institutions that serve as intermediaries in the wholesale foreign exchange and derivatives market and dealers.

Annual reporting hours: 3,945.

Estimated average hours per response: Turnover survey: 51 hours; outstandings survey: 15 hours for FR 2436 reporters, 60 hours for non-FR 2436 reporters.

Number of respondents: 60.

General description of report: This information collection is voluntary (12 U.S.C. 248(a), 353-359, and 461) and is given confidential treatment (5 U.S.C. § 552(b)(4)).

Abstract: The FR 3036 is the U.S. part of a global data collection that is conducted by central banks every three years. More than fifty central banks plan to conduct the survey in 2004. The Bank for International Settlements (BIS) compiles national data from each central bank to produce global market statistics.

The Federal Reserve System and other government agencies use the survey to monitor activity in the foreign exchange and derivatives markets. Respondents use the published data to gauge their market share.

Board of Governors of the Federal Reserve System, December 16, 2003.

Jennifer J. Johnson,
Secretary of the Board.

[FR Doc. E3-00603 Filed 12-19-03; 8:45 am]

BILLING CODE 6210-01-S